INTERNATIONAL TRADE COMMISSION

[Investigations Nos. 701-TA-384 and 731-TA-806-808 (Review)]

Certain Hot-Rolled Flat-Rolled Carbon-Quality Steel Products From Brazil, Japan, and Russia

AGENCY: United States International Trade Commission.

ACTION: Revised schedule for the subject reviews.

EFFECTIVE DATE: January 19, 2005.

FOR FURTHER INFORMATION CONTACT: Dana Lofgren (202-205-3185) or Douglas Corkran (202-205-3057), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective September 1, 2004, the Commission established a schedule for the conduct of the subject reviews (69 FR 54701, September 9, 2004). As a result of a conflict, however, the Commission is revising its schedule; the Commission's hearing will be held at the U.S. International Trade Commission Building at 9:30 a.m. on March 2, 2005. The Commission's original schedule is otherwise unchanged. No party has objected to the Commission's schedule, as revised.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

By order of the Commission.
Issued: January 21, 2005.
Marilyn R. Abbott,
Secretary to the Commission.

[FR Doc. 05-1414 Filed 1-25-05; 8:45 am]

BILLING CODE 7020-02-P